DEPARTMENT OF COMMERCE

National Oceanic and Atmospheric Administration

50 CFR Part 660

RIN 0648-BA01

[Docket No. 100804324-1265-02]

Fisheries Off West Coast States; Pacific Coast Groundfish Harvest Specifications and Management Measures for the Remainder of the 2011 Fishery

AGENCY: National Marine Fisheries Service (NMFS), National Oceanic and Atmospheric Administration (NOAA), Commerce.

ACTION: Agency determination.

SUMMARY: NMFS announces that the provisions implemented in a final rule published on May 11, 2011, pursuant to NFMS' emergency authority under the Magnuson-Stevens Fishery Conservation and Management Act (MSA) will remain in effect for the remainder of the 2011 groundfish fishery. The provisions included a new rebuilding plan for petrale sole, revised rebuilding plans for other overfished species, and revised status determination criteria, harvest specifications and a precautionary harvest control rule for assessed flatfish species. This announcement is required in order to maintain the current rebuilding plans, harvest specifications and harvest control rule for assessed flatfish species.

DATES: Effective on November 7, 2011.

ADDRESSES: Background information and documents are available from William W. Stelle, Jr., Regional Administrator, Northwest Region, NMFS, 7600 Sand Point Way NE., Seattle, WA 98115-0070; or by phone at (206) 526-6150.

FOR FURTHER INFORMATION CONTACT: Sarah Williams, (206) 526-4646; (fax) (206) 526-6736; Sarah.Williams@noaa.gov

SUPPLEMENTARY INFORMATION: NMFS published a final rule establishing harvest specifications and management measures for most species (75 FR 27508, May 11, 2011), in part pursuant to NMFS' emergency authority under section 305(c) of the MSA. Specifically, that action amended 50 CFR part 660 to establish new and revised rebuilding plans, establish harvest specifications consistent with those rebuilding plans and new flatfish harvest proxies. Further background information for that action is provided in the preamble text of the May 11, 2011, final rule and in the supporting documents for that action, and is not repeated here.

Opportunity for public comment on the May 11, 2011, final rule was provided. One comment was received on that rule that was not relevant to the emergency provisions.

Therefore, this document announces the agency determination to continue through December 31, 2011, the measures set forth in the May 11, 2011, rule at § 660.40 and Table 2a to part 660, subpart C.

Authority: 16 U.S.C. 1801 et seq. and 16 U.S.C. 7001 et seq.

Dated: November 2, 2011.
Samuel D. Rauch III,
Deputy Assistant Administrator for Regulatory Programs, National Marine Fisheries Service.

[FR Doc. 2011-28769 Filed 11-4-11; 8:45 am]

BILLING CODE 3510-22-P